DEPARTMENT OF TRANSPORTATION

[Docket Number DOT-OST-2017-0043]

Agency Information Collection Activity: Notice To Continue To Collect Information: Barrier Failure Reporting in Oil and Gas Operations on the Outer Continental Shelf

AGENCY: Bureau of Transportation Statistics (BTS), Office of the Assistant Secretary for Research Technology (OST-R), U.S. Department of Transportation.

ACTION: 30-Day notice.

SUMMARY: The U.S. Department of Transportation (US DOT) BTS published a 60-day comment period Notice 86 FR 58391 on October 21, 2021 seeking public input to continue the collection of barrier failure data. Barrier Failure Reporting in Oil and Gas Operations on the Outer Continental Shelf is a component of BTS's SafeOCS data sharing framework, that provides a trusted, proactive means for the oil and gas industry to report sensitive and proprietary safety information, and to identify early warnings of safety problems and potential issues by uncovering hidden, at-risk conditions not previously exposed through analysis of reportable equipment failures and incidents. BTS received no comments during the 60-day public comment period.

DATES: Comments must be received by April 6, 2022.

ADDRESSES: BTS seeks public comments on its proposed information collection. Comments should address whether the information will have practical utility; the accuracy of the estimated burden hours of the proposed information collection' ways to enhance the quality, utility and clarity of the information to be collected; and ways to minimize the burden of the collection of information on respondents, including the use of automated collection techniques or other forms of information technology. Send comments to the Office of Information and Regulatory Affairs, Office of Management and Budget, 725 17th Street NW, Washington, DC 20503, Attention: BTS Desk Officer.

FOR FURTHER INFORMATION CONTACT: Demetra V. Collia, Bureau of Transportation Statistics, Office of the Assistant Secretary for Research and Technology, U.S. Department of Transportation, Office of Safety Data and Analysis (OSDA), RTS-34, E36-302, 1200 New Jersey Avenue SE, Washington, DC 20590-0001; Phone No. (202) 366-1610; Fax No. (202) 366-3383; email: demetra.collia@dot.gov. Office hours are from 8:30 a.m. to 5 p.m., EST, Monday through Friday, except Federal holidays.

Data Confidentiality Provisions: This data collection is protected under the BTS confidentiality statute (49 U.S.C. 6307 (b)) and the Confidential Information Protection and Statistical Efficiency Act (CIPSEA) of 2018 (Pub. L.: 115-435 Foundations for Evidence-Based Policymaking Act of 2018, Title III.) In accordance with these confidentiality statutes, only statistical and non-identifying data will be made publicly available through reports. Further, BTS will not release to Bureau of Safety and Environment Enforcement (BSEE) or any other public or private entity any information that might reveal the identity of individuals or organizations mentioned in SafeOCS reports.

SUPPLEMENTARY INFORMATION:

I. The Data Collection

The Paperwork Reduction Act of 1995 (44 U.S.C. Chapter 35; as amended) and 5 CFR part 1320 require each Federal agency to obtain OMB approval to continue an information collection activity. BTS is seeking OMB approval for the following BTS information collection activity:

Title: Barrier Failure Reporting in Oil and Gas Operations on the Outer Continental Shelf.

OMB Control Number: 2138-0046.

Type of Review: Approval to Continue to Collect.

Respondents: BTS has entered a MOU with BSEE to facilitate the collection of information from respondents identified in the BSEE notices for OMB Control Number 1014-0028 and OMB Control Number 1014-0003. Responsibility for establishing the actual scope and burden for this collection resides with BSEE. This BTS information collection request does not create any additional burden for respondents. For the purposes of this collection BTS has identified BSEE as the sole respondent.

Number of Respondents: As a request to be authorized repository for previously collected information, BTS has identified BSEE as the sole respondent reporting to BTS at the annual frequency of one.

Estimated Time per Response: 60 minutes.

Frequency: Once.

Total Annual Burden: 1 hour.

BTS has agreed through a Memorandum of Understanding (MOU) with BSEE to undertake the information collection identified in the previously approved BSEE notice for OMB Control Number(s) 1014-0028, expiration 4/30/2019 and the BSEE notice with OMB Control Number 1014-0003, expiration 8/31/2019, to ensure the confidentiality of submissions under CIPSEA. The information collection is limited to the establishment of BTS as an authorized repository. This information collection request does not create any additional burden for respondents.

II. Public Participation and Request for Public Comments

On October 18, 2021, the DOT published a notice in the Federal Register (86 FR 57744) encouraging interested parties to submit comments and allowing for a 60-day comment period on the collection entitled “Barrier Failure Reporting in Oil and Gas Operations on the Outer Continental Shelf.” The comment period closed on December 17, 2021. No comments were submitted to the docket during that time.

The notice can be viewed at, http://www.regulations.gov, and typing in the Docket Number 2021-22279. If you do not have access to the internet, you may view the docket by visiting the Docket Management Facility in Room W12-140 on the ground floor of the U.S. DOT West Building, 1200 New Jersey Avenue SE, Washington, DC 20590, between 9 a.m. and 5 p.m. Monday through Friday, except Federal holidays.

Privacy Act

All comments the BTS receives are posted without change to http://www.regulations.gov. Anyone may search the electronic form of all comments received into any of our dockets by the name of the individual submitting the comment (or of the person signing the comment, if submitted on behalf of an association, business, labor union, etc.). You may review DOT's complete Privacy Act Statement in the Federal Register published on January 17, 2008 (73 FR 3316), or you may visit https://www.gpo.gov/fdsys/pkg/FR-2017-03-30/pdf/2017-06272.pdf.

III. Discussion of Public Comments and BTS Responses

On October 18, 2021 in a Federal Register Notice (86 FR 57744), BTS announced its intention to request OMB approval for continuing to collect barrier failure data in oil and gas operations on the Outer Continental Shelf. BTS received no comments during the 60-day public comment period.

Demetra V. Collia,
Director, Bureau of Transportation Statistics, Office of Safety Data and Analysis.

[FR Doc. 2022-04682 Filed 3-4-22; 8:45 am]

BILLING CODE 4910-9X-P